FEDERAL COMMUNICATIONS COMMISSION

47 CFR Part 73

[DA 05-2692; MB Docket No. 04-218; RM-10987, RM-11237]

Radio Broadcasting Services; Cimarron, Las Vegas and Pecos, NM

AGENCY: Federal Communications Commission.

ACTION: Final rule.

SUMMARY: In response to a Notice of Proposed Rule Making, 69 FR 35561 (June 25, 2004) this Report and Order reallots Channel 264C3, Station KLVF(FM) (“KLVF”), Las Vegas, New Mexico, to Pecos, New Mexico, and modifies Station KLVF's license accordingly. The coordinates for Channel 264C3 at Pecos, New Mexico, are 35-40-48 NL and 105-32-26 WL, with a site restriction of 16.9 kilometers (10.5 miles) northeast of Pecos. The Report and Order also allots Channel 296A to Las Vegas, New Mexico, at coordinates of 35-36-33 NL and 105-09-31 WL, with a site restriction of 5.4 kilometers (3.3 miles) east of Las Vegas, New Mexico.

DATES: Effective November 28, 2005.

FOR FURTHER INFORMATION CONTACT: R. Barthen Gorman, Media Bureau, (202) 418-2180.

SUPPLEMENTARY INFORMATION: This is a synopsis of the Commission's Report and Order, MB Docket No. 04-218, adopted October 12, 2005, and released October 14, 2005. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

For the reasons set forth in the preamble, part 73 is amended as follows:

PART 73—RADIO BROADCAST SERVICES

1. The authority citation for Part 73 reads as follows:

Authority: 47 U.S.C. 154, 303, 334, 336.

§ 73.202 [Amended]

2. Section 73.202(b), the Table of FM Allotments under New Mexico, is amended by removing Channel 264C3 and adding Channel 296A at Las Vegas; and by adding Channel 264C3 at Pecos.

Federal Communications Commission.
John A. Karousos,
Assistant Chief, Audio Division, Media Bureau.

[FR Doc. 05-21556 Filed 11-1-05; 8:45 am]

BILLING CODE 6712-01-P